DEPARTMENT OF ENERGY

Federal Energy Regulatory Commission

Combined Notice of Filings #1

Take notice that the Commission received the following electric rate filings:

Docket Numbers: ER10-3260-002.

Applicants: Granite Ridge Energy, LLC.

Description: Additional Supplement to Updated Market Power Analysis of Granite Ridge Energy, LLC.

Filed Date: 1/23/12.

Accession Number: 20120123-5303.

Comments Due: 5 p.m. ET 2/13/12.

Docket Numbers: ER11-3414-002.

Applicants: Blue Canyon Windpower VI LLC.

Description: Notice of Non-Material Change in Status of Blue Canyon Windpower VI LLC.

Filed Date: 1/23/12.

Accession Number: 20120123-5306.

Comments Due: 5 p.m. ET 2/13/12.

Docket Numbers: ER12-275-002.

Applicants: Dynegy Oakland, LLC.

Description: Request for Deferral of Commission Action to be effective 12/31/9998.

Filed Date: 1/23/12.

Accession Number: 20120123-5268.

Comments Due: 5 p.m. ET 2/13/12.

Docket Numbers: ER12-539-001.

Applicants: Atlantic Power Energy Services (US) LLC.

Description: Notice of Succession to be effective 1/17/2012.

Filed Date: 1/23/12.

Accession Number: 20120123-5099.

Comments Due: 5 p.m. ET 2/13/12.

Docket Numbers: ER12-540-001.

Applicants: APDC, Inc.

Description: Notice of Succession to be effective 1/17/2012.

Filed Date: 1/23/12.

Accession Number: 20120123-5100.

Comments Due: 5 p.m. ET 2/13/12.

Docket Numbers: ER12-664-001.

Applicants: PacifiCorp.

Description: UMPA ARTSOA Rev 2 Errata Filing to be effective 2/21/2012.

Filed Date: 1/23/12.

Accession Number: 20120123-5153.

Comments Due: 5 p.m. ET 2/13/12.

Docket Numbers: ER12-795-001.

Applicants: High Liner Foods Incorporated.

Description: Amended MBR Filing to be effective 2/1/2012.

Filed Date: 1/23/12.

Accession Number: 20120123-5097.

Comments Due: 5 p.m. ET 2/13/12.

Docket Numbers: ER12-857-001.

Applicants: Pacific Gas and Electric Company.

Description: Errata to the 3rd Amendment to the PWRPA IA and WDT SA to be effective 1/23/2012.

Filed Date: 1/23/12.

Accession Number: 20120123-5000.

Comments Due: 5 p.m. ET 2/13/12.

Docket Numbers: ER12-859-000.

Applicants: ISO New England Inc.

Description: Notice of Effective Date for ER09-1051-003 to be effective 2/6/2012.

Filed Date: 1/23/12.

Accession Number: 20120123-5044.

Comments Due: 5 p.m. ET 2/13/12.

Docket Numbers: ER12-860-000.

Applicants: ISO New England Inc., New England Power Pool Participants Committee.

Description: Transmission De-Rate Changes to be effective 3/12/2012.

Filed Date: 1/23/12.

Accession Number: 20120123-5074.

Comments Due: 5 p.m. ET 2/13/12.

Docket Numbers: ER12-861-000.

Applicants: Solios Power Mid-Atlantic Virtual LLC.

Description: Solios Power Mid-Atlantic Virtual LLC MBR ETariff and Transmittal to be effective 1/23/2012.

Filed Date: 1/23/12.

Accession Number: 20120123-5081.

Comments Due: 5 p.m. ET 2/13/12.

Docket Numbers: ER12-862-000.

Applicants: Power Supply Services LLC.

Description: Application for Market Based Rate Authority to be effective 3/23/2012.

Filed Date: 1/23/12.

Accession Number: 20120123-5094.

Comments Due: 5 p.m. ET 2/13/12.

Docket Numbers: ER12-863-000.

Applicants: PJM Interconnection, L.L.C.

Description: 4th Quarter Updates to PJM Operating Agreement and RAA Membership List to be effective 12/31/2011.

Filed Date: 1/23/12.

Accession Number: 20120123-5147.

Comments Due: 5 p.m. ET 2/13/12.

Docket Numbers: ER12-864-000.

Applicants: PJM Interconnection, L.L.C.

Description: Queue No. X2-076; First Revised Service Agreements Nos. 3154 and 3155 to be effective 12/22/2011.

Filed Date: 1/23/12.

Accession Number: 20120123-5176.

Comments Due: 5 p.m. ET 2/13/12.

Docket Numbers: ER12-865-000.

Applicants: Northern Indiana Public Service Company.

Description: Supplement to Wabash Valley Power Association Interconnection Agreement to be effective 12/28/2011.

Filed Date: 1/23/12.

Accession Number: 20120123-5190.

Comments Due: 5 p.m. ET 2/13/12.

Docket Numbers: ER12-866-000.

Applicants: Southwest Power Pool, Inc.

Description: 1863R1 Westar Energy, Inc. NITSA NOA to be effective 12/1/2011.

Filed Date: 1/23/12.

Accession Number: 20120123-5192.

Comments Due: 5 p.m. ET 2/13/12.

Docket Numbers: ER12-867-000.

Applicants: Southwest Power Pool, Inc.

Description: 1885R1 Westar Energy, Inc. NITSA NOA to be effective 12/1/2011.

Filed Date: 1/23/12.

Accession Number: 20120123-5193.

Comments Due: 5 p.m. ET 2/13/12.

Docket Numbers: ER12-868-000.

Applicants: Southwest Power Pool, Inc.

Description: 1891R1 Westar Energy, Inc. NITSA NOA to be effective 12/1/2011.

Filed Date: 1/23/12.

Accession Number: 20120123-5195.

Comments Due: 5 p.m. ET 2/13/12.

Docket Numbers: ER12-869-000.

Applicants: PJM Interconnection, L.L.C.

Description: PJM Queue # X1-038 ? Original Service Agreement No. 3179 to be effective 12/22/2011.

Filed Date: 1/23/12.

Accession Number: 20120123-5197.

Comments Due: 5 p.m. ET 2/13/12.

Docket Numbers: ER12-870-000.

Applicants: Southwest Power Pool, Inc.

Description: 1892R1 Westar Energy, Inc. NITSA NOA to be effective 12/1/2011.

Filed Date: 1/23/12.

Accession Number: 20120123-5198.

Comments Due: 5 p.m. ET 2/13/12.

Docket Numbers: ER12-871-000.

Applicants: Southwest Power Pool, Inc.

Description: 1893R1 Westar Energy, Inc. NITSA NOA to be effective 12/1/2011.

Filed Date: 1/23/12.

Accession Number: 20120123-5202.

Comments Due: 5 p.m. ET 2/13/12.

Docket Numbers: ER12-872-000.

Applicants: Southwest Power Pool, Inc.

Description: 1895R1 Westar Energy, Inc. NITSA NOA to be effective 12/1/2011.

Filed Date: 1/23/12.

Accession Number: 20120123-5207.

Comments Due: 5 p.m. ET 2/13/12.

Docket Numbers: ER12-873-000.

Applicants: Southwest Power Pool, Inc.

Description: 1978R1 Westar Energy, Inc. NITSA NOA to be effective 12/1/2011.

Filed Date: 1/23/12.

Accession Number: 20120123-5213.

Comments Due: 5 p.m. ET 2/13/12.

Docket Numbers: ER12-874-000.

Applicants: Southwest Power Pool, Inc.

Description: 1894R1 Westar Energy, Inc. NITSA NOA to be effective 12/1/2011.

Filed Date: 1/23/12.

Accession Number: 20120123-5216.

Comments Due: 5 p.m. ET 2/13/12.

Take notice that the Commission received the following land acquisition reports:

Docket Numbers: LA11-4-000.

Applicants: Pacific Gas and Electric Company.

Description: Quarterly Land Acquisition Report of Pacific Gas and Electric Company.

Filed Date: 1/23/12.

Accession Number: 20120123-5304.

Comments Due: 5 p.m. ET 2/13/12.

Take notice that the Commission received the following qualifying facility filings:

Docket Numbers: QF06-104-001.

Applicants: Packaging Corporation of America.

Description: Form 556—Notice of self-certification of qualifying cogeneration facility status of Packaging Corporation of America.

Filed Date: 1/17/12.

Accession Number: 20120117-5089.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 24, 2012.
Nathaniel J. Davis, Sr.,
Deputy Secretary.

[FR Doc. 2012-2117 Filed 1-31-12; 8:45 am]

BILLING CODE 6717-01-P